DEPARTMENT OF COMMERCE

National Oceanic and Atmospheric Administration

Agency Information Collection Activities; Submission to the Office of Management and Budget (OMB) for Review and Approval; Comment Request; Pacific Islands Short-Tailed Albatross Recovery Data Form

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on July 16, 2024 during a 60-day comment period. This notice allows for an additional 30 days for public comments.

Agency: National Oceanic and Atmospheric Administration (NOAA), Commerce.

Title: Pacific Islands Short-tailed Albatross Recovery Data Form.

OMB Control Number: 0648-0456.

Form Number(s): None.

Type of Request: Regular submission [revision with an extension of a current information collection].

Number of Respondents: 1.

Average Hours per Response: 1.25 Hrs (1.0 for report, 0.25 for notification).

Total Annual Burden Hours: 1.25.

Needs and Uses: To improve the information collection, NMFS revised the Short-tailed Albatross Recovery Data Form to remove the field for hook type as only one hook type is currently allowed in the fishery, collect information on hook size, collect more details about bird bands, and request more information about transportation of an injured bird. We also changed the collection's title from Pacific Islands Region Seabird-Fisheries Interaction Recovery Reporting to Pacific Islands Short-tailed Albatross Recovery Data Form to more accurately describe the collection and its purpose.

Federal regulations at https://www.ecfr.gov/current/title-50/part-665/section-665.815#p-665.815(b) require that the operator of a vessel with a Hawaii longline limited access permit safely handle and release endangered short-tailed albatrosses (Phoebastria albatrus) incidentally hooked or entangled during fishing operations. In that event, the vessel operator must also immediately notify NMFS, the U.S. Coast Guard or the U.S. Fish and Wildlife Service (USFWS); record the condition of the bird and other time and location information on a Short-tailed Albatross Recovery Data Form; attach identical information tags to the carcass and specimen bag if the albatross is dead; and turn over any carcass to USFWS within 72 hours after returning to port. If the albatross is alive, a veterinarian will use the information to provide advice to the vessel operator for caring for the bird. If the albatross is dead, the recorded information will assist USFWS biologists in follow-up studies on the specimen. This collection is one of the terms and conditions contained in a Endangered Species Act Section 7 biological opinion issued by USFWS, and is intended to maximize the probability of the long-term survival of short-tailed albatross accidentally taken by longline gear.

Affected Public: Individuals or households; Business or other for-profit organizations.

Frequency: As needed.

Respondent's Obligation: Mandatory.

Legal Authority: 50 CFR 665.815(b).

This information collection request may be viewed at www.reginfo.gov. Follow the instructions to view the Department of Commerce collections currently under review by OMB.

Written comments and recommendations for the proposed information collection should be submitted within 30 days of the publication of this notice on the following website https://www.reginfo.gov/public/do/PRAMain. Find this particular information collection by selecting “Currently under 30-day Review—Open for Public Comments” or by using the search function and entering either the title of the collection or the OMB Control Number 0648-0456.

Sheleen Dumas,
Department PRA Clearance Officer, Office of the Under Secretary for Economic Affairs, Commerce Department.

[FR Doc. 2024-22717 Filed 10-1-24; 8:45 am]

BILLING CODE 3510-22-P